DEPARTMENT OF THE TREASURY

Internal Revenue Service

26 CFR Part 1

[REG-105946-00]

RIN 1545-AY31

Mid-Contract Change in Taxpayer; Hearing Cancellation

AGENCY: Internal Revenue Service (IRS), Treasury.

ACTION: Cancellation of notice of public hearing on proposed rulemaking.

SUMMARY: This document provides notice of cancellation of a public hearing on proposed regulation relating to mid-contract changes in taxpayer.

DATES: The public hearing originally scheduled for Wednesday, June 13, 2001, at 10 a.m., is cancelled.

FOR FURTHER INFORMATION CONTACT: Guy R. Traynor of the Regulations Unit, Assistant Chief Counsel, (202) 622-7180 (not a toll-free number).

SUPPLEMENTARY INFORMATION: A notice of proposed rulemaking and notice of public hearing that appeared in the Federal Register on February 16, 2001 (66 FR 10643), announced that a public hearing was scheduled for June 13, 2001 at 10 a.m., in room 6718 of the Internal Revenue Building, 1111 Constitution Avenue NW., Washington, DC. The subject of the public hearing is proposed regulations under section 460 of the Internal Revenue Code. The public comment period for these regulations expired on May 30, 2001.

The notice of proposed rulemaking and notice of public hearing, instructed those interested in testifying at the public hearing to submit a request to speak and an outline of the topics to be addressed. As of June 7, 2001, no one has requested to speak. Therefore, the public hearing scheduled for June 13, 2001, is cancelled.

Cynthia E. Grigsby,
Chief, Regulations Unit, Office of Special Counsel, (Modernization & Strategic Planning).

[FR Doc. 01-14759 Filed 6-7-01; 2:28 pm]

BILLING CODE 4830-01-P